DEPARTMENT OF DEFENSE

Department of the Navy

Notice of Performance Review Board Membership

AGENCY: Department of the Navy, DoD.

ACTION: Notice.

SUMMARY: Pursuant to 5 U.S.C. 4314(c)(4), the Department of the Navy (DON) announces the appointment of members to the DON's numerous Senior Executive Service (SES) Pay Pools (PP)/Performance Review Boards (PRB). The purpose of the PP/PRB is to provide fair and impartial review of the annual SES performance appraisal prepared by the senior executive's immediate and second level supervisor; to make recommendations to appointing officials regarding acceptance or modification of the performance rating; and to make recommendations for performance bonuses and basic pay increases. Composition of the specific PP/PRB will be determined on an ad hoc basis from among individuals listed below:

Adams, Patricia A. Ms.

Allard, Terry T. Dr.

Ardrey, Ellen Ms.

Bird, John M. VADM

Branch, Elliott B. Mr.

Brennan, Anne M. Ms.

Cali, Robert T. Mr.

Campbell, Joseph F. RADM

Chudoba, Phillip Mr.

Clark, Mark A. Mr.

Clookie, Mark D. Mr.

Commons, Gladys HON.

Cook, Charles E. III Mr.

Craig, Scott T. RADM

Easter, Steffanie B. Ms.

Eccles, Thomas J. RDML

Garcia, Juan M. HON.

Gibbs, Robert C. Mr.

Goodhart, John C. Mr.

Grosklags, Paul RDML

Harrell, Margaret R. Ms.

Hogue, Robert D. Mr.

Honecker, Mark W. Mr.

Iselin, Steven R. Mr.

Johnson, David C. RDML

Jones, Walter F. Dr.

Keeney, Carmela A. Ms.

Kistler, Michael R. Mr.

Kleintop, Maureen U. Ms.

Laux, Thomas E. Mr.

Lawrence, Joseph P. Dr.

Ledvina, Thomas N. Mr.

Leikach, Kalmen I. Mr.

Lewis, David H. RDML

Ligler, Frances S. Dr.

Maguire, Margaret M. Ms.

Marble, Douglas C. CAPT

McCormack, Donald F. Jr. Mr.

McCurdy, Jesse W. Jr. Mr.

McMahon, Michael E. RDML

McManamon, James P. RDML

McNair, John W. Mr.

Meadows, Linda J. Ms.

Mitchell, Stephen E. Mr.

Montgomery, John A. Dr.

Moran, William F. RADM

Murray, Sheryl E. Ms.

O'Neil, Scott M. Mr.

Orzalli, John C. RADM

Panter, Frank A. LTGEN

Persons, Brian J. Mr.

Pfannenstiel, Jackalyne HON.

Punderson, Jerome F. Mr.

Ridley, Mark D. Mr.

Roberson, Eileen S. Ms.

Shannon, James J. RDML

Shephard, Monica R. Ms.

Skinner, Walter M. VADM

Smith, Roderick F. Mr.

Somoroff, Allan R. Dr.

Stackley, Sean J. HON.

Stewart, Paul C. CAPT

Stiller, Allison F. Ms.

Tamburrino, Pasquale M. Mr.

Tesch, Thomas G. Mr.

Thackrah, John S. Mr.

Thomsen, James E. Mr.

Wears, Thomas G. RDML

Weddel, David W. Mr.

FOR FURTHER INFORMATION CONTACT: Ms. Danielle A. Fisher, Office of Civilian Human Resources, telephone 202-685-6341.

Dated: December 22, 2010.
H.E. Higgins,
Lieutenant, Office of the Judge Advocate General, U.S. Navy, Federal Register Liaison Officer.

[FR Doc. 2010-32807 Filed 12-28-10; 8:45 am]

BILLING CODE 3810-FF-P